POSTAL REGULATORY COMMISSION

[Docket No. C2024-13; Presiding Officer's Ruling No. 10]

Complaint

AGENCY: Postal Regulatory Commission.

ACTION: Notice.

SUMMARY: The Commission is providing notice that a prehearing videoconference is being rescheduled and providing other case management information.

DATES: Live Videoconference: May 22, 2025, at 10 a.m., eastern daylight time, virtual.

FOR FURTHER INFORMATION CONTACT: David A. Trissell, General Counsel, at 202-789-6820.

SUPPLEMENTARY INFORMATION:

I. Hearing Schedule

II. Ruling

I. Hearing Schedule

The schedule for the submission of briefs and evidence shall be as follows:

| >
Prehearing Conference to Discuss Written Hearing | May 21, 2025, 10 a.m., Eastern time.
Deadline for Designating Evidence For Parties' Initial Brief | May 23, 2025.
Parties' Initial Brief with Supporting Evidence | May 23, 2025.
Deadline to Request Written Cross-Examination of Opposing Parties' Witnesses | May 26, 2025.
Response to Written Cross-Examination, if necessary | June 2, 2025.
Parties' Answering Brief with Supporting Evidence | June 12, 2025.
Deadline to Request Written Cross-Examination of Witnesses Supporting Answering Brief | June 16, 2025.
Response to Such Written Cross-Examination, if necessary | June 23, 2025.
Settlement Conference | July 17, 2025,10 a.m., Eastern time.

All submissions must be filed electronically on the Commission's docket by 4:30 p.m. Eastern time on the date due.

II. Ruling

1. The parties and counsel shall follow the hearing format and schedule established by this Presiding Officer's Ruling.

2. The Secretary shall arrange for publication of the hearing schedule in the Federal Register.

Kimberly R. Banks,
Second Certifying Official.

[FR Doc. 2025-08979 Filed 5-19-25; 8:45 am]

BILLING CODE 7710-FW-P